FEDERAL COMMUNICATIONS COMMISSION

47 CFR Part 73

[MM Docket No. 00-167; FCC 04-221]

Children's Television Obligation of Digital Television Broadcasters

AGENCY: Federal Communications Commission.

ACTION: Final rule; announcement of effective date.

SUMMARY: The Federal Communications Commission has received Office of Management and Budget (OMB) approval for the revised public information collection, OMB Control Number 3060-0750, Children's Television Obligation of Digital Television Broadcasters, MB Docket No. 00-167, FCC 04-221. FCC 04-221 was published at 70 FR 25 (January 3, 2005), correction published at 70 FR 9876 (March 1, 2005). Therefore, the Commission announces that 47 CFR 73.671(c)(5) is effective September 19, 2005.

DATES: The amendment to 47 CFR 73.671(c)(5) published at 70 FR 25, January 3, 2005, and corrected at 70 FR 9876, March 1, 2005, is effective on September 19, 2005.

SUPPLEMENTARY INFORMATION: The Federal Communications Commission has received OMB approval for revised information collection, OMB Control Number 3060-0750, Children's Television Obligation of Digital Television Broadcasters, MB Docket No. 00-167; FCC 04-221. This rule was published at 70 FR 25 (January 3, 2005), correction published at 70 FR 9876 (March 1, 2005). Through this document, the Commission announces that OMB approval for OMB Control Number 3060-0750 was received on July 27, 2005. The effective date for rule 47 CFR 73.671(c)(5) is September 19, 2005.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control number and expiration date should be directed to Cathy Williams, Federal Communications Commission, (202) 418-2918 or via the Internet at Cathy.Williams@fcc.gov.

Federal Communications Commission.
Marlene H. Dortch,
Secretary.

[FR Doc. 05-16387 Filed 8-16-05; 8:45 am]

BILLING CODE 6712-01-P